DEPARTMENT OF TRANSPORTATION

National Highway Traffic Safety Administration

[NHTSA-2006-24872]

Proposed Guidelines for Impaired Driving Records Information Systems Section 2007(c) Implementing Guidelines

AGENCY: National Highway Traffic Safety Administration (NHTSA), Department of Transportation (DOT).

ACTION: Notice of proposed guidelines on impaired driving records information systems.

SUMMARY: This notice sets forth proposed guidelines on the types and formats of data that States should collect relating to drivers who are arrested or convicted for violation of laws prohibiting the impaired operation of motor vehicles, as directed by Section 2007(c) of the Safe, Accountable, Flexible, Efficient Transportation Equity Act: A Legacy for Users (SAFETEA-LU).

DATES: Written comments may be submitted to this agency and must be received by July 28, 2006.

ADDRESSES: Comments should refer to Proposed Guidelines on Impaired Driving Records Information Systems and be submitted to Docket No. NHTSA-2006-24872.

FOR FURTHER INFORMATION CONTACT: For programmatic issues: Ms. De Carlo Ciccel, Highway Safety Specialist, Impaired Driving Division, NTI-111, or Ms. Heidi Coleman, Chief, Impaired Driving Division, NTI-111, National Highway Traffic Safety Administration, 400 Seventh Street, SW., Washington, DC 20590. Telephone: (202) 366-1694. For legal issues: Ms. Nygina T. Mills, Office of Chief Counsel, NCC-113, National Highway Traffic Safety Administration, 400 Seventh Street, SW., Washington, DC 20590. Telephone (202) 366-1834.

SUPPLEMENTARY INFORMATION:

Background

Annually, more than a million drivers are arrested for alcohol-impaired driving. While States bear the primary responsibility for enacting and enforcing impaired driving laws and for adjudicating and sanctioning offenses, they sometimes lack the most effective tools to manage their programs. A comprehensive data system containing records of impaired driving arrests and convictions would enable a State to make more effective traffic safety decisions. The ideal system should contain timely, accurate, complete, consistent, integrated, accessible and secure information. The less timely citation data are, the less their utility. Citation data that are not accurate or complete (e.g., misspelled name, incorrect charge) can result in dismissed cases or reduced charges and can complicate linkage to other traffic records system components such as driver license files. Citation data that are not consistent can lead to charges that vary by jurisdiction or by law enforcement agency. Data that are not accessible or that cannot be integrated or linked almost always require more time, effort and resources to process and complete, and can delay or interfere with the adjudication process. Data that are not secure can lead to system-wide failures and data corruption.

NHTSA's experience indicates that a successful Impaired Driving Records Information System requires significant efforts by a State to generate, transmit, store, update, link, manage, analyze, and report information on impaired driving offenders and citations. Such a system should include impaired driving-related information that is collected and managed by the system's stakeholders. Key system stakeholders include law enforcement agencies, the Department of Motor Vehicles (DMV), and the judicial system. A fully developed electronic Impaired Driving Records Information System is a powerful tool to assist States in developing an effective system of deterrence for impaired driving.

In the agency's latest reauthorization, Congress recognized the need for States to employ more robust impaired driving data systems. Section 2007(c) of the Safe, Accountable, Flexible, Efficient Transportation Equity Act: A Legacy for Users (SAFETEA-LU), directs NHTSA to “issue guidelines to the States specifying the types and formats of data that States should collect relating to drivers who are arrested or convicted for violation of laws prohibiting the impaired operation of motor vehicles.” In response to that direction, today's notice sets forth guidelines in the form of a model system for impaired driving records, based on the results of NHTSA experience in this area. NHTSA's efforts to date suggest that important statistical and data elements include data covering arrests, case prosecutions, court dispositions and sanctions, and that it is critical to provide for the linkage of such data and traffic records systems to appropriate jurisdictions and offices within the State.

NHTSA's Experience: Impaired Driving Data Systems

In 1997, NHTSA published “Driving While Intoxicated Tracking Systems” (DOT HS 808 520). This report laid the foundation for building a comprehensive tracking system for driving while intoxicated (DWI) offenses. An effective DWI Tracking System was defined as one that: (1) Effectively manages DWI information from arrest through sanction completion and/or license reinstatement; (2) adequately gauges DWI trends and the effectiveness of a wide range of education, information, legislation, and other countermeasures and targeted reduction programs; (3) provides key decision makers (law enforcement, DMV, prosecutors, judges, etc.) with adequate and timely information to allow equitable imposition of charges and penalties; and (4) reduces the administrative burden on system stakeholders and improves efficiency while increasing the punitive nature of State laws and processes. Specific DWI Tracking System types in use effectively by States include case management systems, statistical systems and hybrid systems.

The 1997 report recognized the importance of various key stakeholders to the success of the system. The judicial system was assumed to encompass the various parties involved in the prosecution and adjudication of impaired driving cases, including judges, prosecutors, public defenders, and, in some States, probation officials. Other identified key stakeholders included treatment agencies, departments of correction, departments of criminal justice, legislatures, advocacy groups, and the State Highway Safety Offices.

Since each State is unique in its governmental structure and strategies, the report concluded that a single DWI tracking system design that would meet the needs of all States could not be developed. However, the report provided a framework for an effective core system, described the key system characteristics, discussed the criticality of DWI tracking, and laid the foundation for developing an effective DWI Tracking System.

Since 1997, most States have worked to develop specific components of a DWI Tracking System, often with very little exchange or interaction between system components. Consequently, most States still lack a comprehensive system to identify, adjudicate, prosecute, and track incidences involving alcohol-impaired and/or other drug-impaired drivers.

In 2001, in collaboration with State and federal agencies, NHTSA expanded the framework of a DWI Tracking System to a more comprehensive impaired driving records information system. This expanded system, known as the Model Impaired Driving Records Information System, enabled a State to perform the following functions:

• Appropriately charge and sentence offenders, based on their driving history;

• Manage impaired driving cases from arrest through the completion of court and administrative sanctions;

• Identify populations and trends, evaluate countermeasures and identify problematic components of the overall impaired driving control system;

• Provide stakeholders with adequate and timely information to fulfill their responsibilities; and

• Reduce administrative costs for system stakeholders and increase system efficiencies.

In 2002, NHTSA solicited participation in a Model Impaired Driving Records Information System that provided immediate electronic access to driver history and vehicle information, electronic collection of data, electronic transmission of data between key stakeholders, and on-line access to complete, accurate, and timely information on impaired driving cases. 67 FR 40381 (June 12, 2002). With this system, States could begin to use the model requirements and data elements as a collective resource and thereby curb the installation of costly and duplicative record systems. The system ideally provides full access to all key stakeholders and addresses each stakeholder's needs. The system also tracks each impaired driving offense and offender administratively and through the judicial system, from arrest through dismissal or sentence completion, and provides aggregate data (e.g., number of arrests, convictions, blood alcohol concentration (BAC) distribution, and offender demographics) to better manage a State's impaired driving program.

States participating in this ongoing demonstration project include Alabama, Connecticut (added in 2004), Iowa, Nebraska, and Wisconsin. These States have implemented the use of real-time data to plan and better manage their impaired driving programs. NHTSA plans to make the results of these States' experiences available in 2007 to assist other States to improve impaired driving records information systems. These States' success stories prove that using real-time data systems can not only be successfully accomplished, but that various obstacles to implementation can be overcome.

Based on the agency's experience and efforts described above, NHTSA has developed a framework for an effective data system containing records of impaired driving arrests and convictions. In response to the requirement in SAFETEA-LU to issue guidelines to assist the States in the types and formats of data to collect concerning impaired driving arrests and convictions, the agency proposes the following model system.

Comments

Interested persons are invited to comment on these proposed guidelines. It is requested, but not required, that two copies be submitted. You may submit your comments by one of the following methods:

(1) By mail to: Docket Management Facility, Docket No. NHTSA-2006-24872, DOT, 400 Seventh Street, SW., Nassif Building, Room PL-401, Washington, DC 20590;

(2) By hand delivery to: Room PL-401 on the Plaza level of the Nassif Building, 400 Seventh Street, SW., Washington, DC, between 9 a.m. and 5 p.m., Monday through Friday;

(3) By fax to the Docket Management Facility at (202) 493-2251; or

(4) By electronic submission: Log onto the DMS Web site at http://dms.dot.gov and click on “Help” to obtain instructions.

All comments received before the close of business on the comment closing date will be considered. However, the action may proceed at any time after that date. The agency will continue to file relevant material in the docket as it becomes available after the closing date, and it is recommended that interested persons continue to examine the docket for new material.

You may review submitted comments in person at the Docket Management Facility located at Room PL-401 on the plaza level of the Nassif Building, 400 Seventh Street, SW., Washington, DC, between 9 a.m. and 5 p.m., Monday through Friday. You may also review submitted comments on the Internet by taking the following steps:

(1) Go to the DMS Web page at http://dms.dot.gov.

(2) On that page, click on “Simple Search.”

(3) On the next page (http://dms.dot.gov/search/searchFormSimple.cfm) type in the digit docket number shown at the beginning of this document. Example: If the docket number were “NHTSA-2001-12345,” you would type “12345.” After typing the docket number, click on “search.”

(4) On the next page, which contains docket summary information for the docket you selected, click on the desired comments. You may also download the comments. Although the comments are imaged documents, instead of word processing documents, the “pdf” versions of the document are word searchable.

Those persons who wish to be notified upon receipt of their comments in the docket should enclose, in the envelope with their comments, a self-addressed stamped postcard. Upon receiving the comments, the docket supervisor will return the postcard by mail.

Model Impaired Driving Records Information System

Introduction

The Model Impaired Driving Records Information System supports several important functions. It should:

• Track each impaired driving offender from arrest through dismissal or sentence completion;

• Provide aggregate impaired driving data;

• Conform to national standards and system performance standards;

• Provide accurate, complete, timely, and reliable data; and

• Contain quality control and security features that prevent core and essential data elements and/or driving records from becoming corrupted or compromised.

States vary widely in their organizational structure. States vary, for example, in the structure of their court systems and their executive functions related to public safety, driver licensing, public health, substance abuse, and criminal justice. Also, there are substantial differences in State laws concerning impaired driving, access to public records, acceptance of electronic signatures on charging documents, and many other areas. Therefore, some States may need to make adjustments to the model for conformance with their particular structures and systems.

Specific Features

The Model Impaired Driving Records Information System should have the following specific features:

• Statewide coverage (DMV, all courts adjudicating impaired driving cases, all law enforcement agencies);

• Electronic access by law enforcement officers and courts to current information on license history and status; vehicle registration status, applicable criminal history, and outstanding warrants;

• An electronic citation system that is used by officers at the roadside and/or at the police station and that supports the use of bar codes, magnetic striping, or other technologies to automatically capture driver license and registration information on the citation and other standard legal forms, such as an implied consent form;

• A citation tracking system that accepts electronic citation data (and other standard legal forms) from law enforcement agencies, provides real-time tracking and accountability from the distribution of citation forms to issuance by police officers, through the final court adjudication, and the imposition and completion of court and administrative sanctions, provides access by offender and by citation number or other unique identifier, and allows on-line access by stakeholders;

• Electronic transmission of data from law enforcement agencies and the courts to the driver license system to permit immediate and automatic imposition of administrative sanctions, if applicable, and recording of convictions on the driver license;

• Electronic reporting to courts and DMVs by probation, treatment, or correctional agencies, as applicable, with regard to compliance or non-compliance with court or administrative sanctions;

• Linkage of information from the incident/case-based tracking system and the offender-based DMV license, treatment, and probation systems to develop a complete record for each offender, including driver history;

• Timely access by all stakeholders, including the State Highway Safety Office, to periodic statistical reports needed to support agency operations and to manage the impaired driving control system, identify trends, and support problem identification, policy development, and evaluation of countermeasures;

• Flexibility to include additional data and technological innovations; and

• Conformity with national standards developed by, for example, the American Association of Motor Vehicle Administrators (AAMVA) and the National Crime Information Center (NCIC).

Core Data Definitions

The core set of data available in the Model Impaired Driving Records Information System includes data generated as a result of an impaired driving arrest and the movement of the case through the system as well as data obtained from existing databases or created by linking existing data elements. Specific data elements should conform to national standards developed by AAMVA and others. Subject to State and federal laws and policies regarding access to data and privacy restrictions, the core data available to (but not necessarily accessed by) the courts, DMV, and law enforcement agencies are listed below.

The following data should be obtained from existing databases:

• Driver identifying information, including name, address, driver license number and State, date of birth, physical characteristics (race, gender, height, eye color, weight);

• Driver license class and endorsements, status (e.g., suspended, hardship license, cancelled), restrictions;

• Vehicle license plate number and State of registration, status (e.g., registered, impounded, stolen), Vehicle Identification Number (VIN), DOT motor carrier identification number for commercial vehicles;

• Relevant criminal history;

• Outstanding warrants and other administrative actions;

• In accordance with the State's policies for posting and retaining information on the driver record, offender's history of prior non-impaired driving traffic convictions and associated penalties, impaired driving convictions and/or pre-conviction administrative actions and associated penalties, crashes, current accumulated license penalty points, administrative license actions; and

• Outstanding citations or arrests.

The following data should be generated at the time of the impaired driving arrest and at subsequent points throughout the adjudication and sanctioning stages:

• Arrest/citation information:

○ Citation number(s);

○ Date;

○ Time of day;

○ Roadway location and jurisdiction;

○ Arresting office, Law Enforcement Agency (LEA) identifier;

○ Violation(s) charged;

○ Crash involvement, severity, number of passengers;

○ Alcohol test result: Refusal, Blood Alcohol Concentration (BAC), missing;

○ Drug test result: Refusal, drugs detected, missing;

○ Results of Standardized Field Sobriety Tests and other field tests, as applicable.

• Pre-conviction administrative license and vehicle penalties imposed:

○ Type of sanction;

○ Date imposed;

○ Length of sanction.

• Prosecution/adjudication data:

○ Court case identifier;

○ Date of arraignment;

○ Identifiers for court, judge, jurisdiction;

○ Date of disposition;

○ Completion or non-completion of pre-conviction or pre-sentence deferral program (e.g., court defers sentencing or conviction pending offender's completion of alcohol treatment program and/or other conditions);

○ Final court disposition (e.g., dismissed, acquitted, plea to reduced charge (specified), convicted of original charge after trial, diversion program, adjournment in contemplation of dismissal, pending);

○ Court penalties imposed, including length of jail sentence, house arrest, electronic home monitoring, plate impoundment, ignition interlock device; dollar amount of fines and fees; length and terms of probation; substance abuse assessment/treatment sentence; hours of community service; amount of restitution to victims; vehicle forfeiture; length of license revocation or suspension; other;

○ Probation report and/or pre-sentence assessment information, if available by law.

• Subsequent violations, including driving while suspended/revoked, during license suspension period and resulting penalties;

• Completion of treatment/assessment (start and finish dates);

• Completion/non-completion of court and/or administrative sanctions, including amounts of fines and fees collected; terms of jail time, license suspension or revocation, vehicle or plate impoundment/forfeiture, community service, ignition interlock; other;

• Penalties for failure to complete court and/or administrative sanctions or violations of probation, including license suspensions/revocations;

• Whether license was reinstated and if so, date of reinstatement.

Data Entry, Storage, and Transmission

Although treatment agencies and other stakeholders provide important data to the system, the timely collection and transmission of data by the courts, Law Enforcement Agencies (LEAs), and Departments of Motor Vehicles (DMVs) are of primary importance. Each of these agencies should generate and transmit data electronically. In States where data on alcohol and drug tests are collected and managed by a fourth agency, it is imperative that these data also are generated and transmitted electronically. Other types of data obtained from other agencies, such as treatment agencies, also should be transmitted electronically.

The software for generating court records and citations should have extensive edits and menu pull-downs to minimize data entry errors. When used correctly, the software should ensure that data entry is virtually error-free. The electronic citation software should provide for the automatic population of the citation form and any other related arrest forms with information from the driver license and vehicle registration. This may be accomplished through several mechanisms, including the use of bar codes or magnetic striping or by accessing the driver license file online from a mobile computer in the patrol vehicle or station. The court and DMV systems should have built-in audits that periodically check a sample of records for the timeliness of the receipt of the data and the accuracy and completeness of the records. Ideally, each component of the system should provide real-time, on-line access to stakeholders and real-time, immediate transmission of data. Electronic capture, retrieval, and data transmission provides for timeliness and consistency in data. Also, electronic system edits ensure more accurate and reliable data.

Law enforcement officers and courts should have immediate (or near-equivalent) access to current driver license and registration records and criminal history records. The immediate access to driver license and registration information may be accomplished in various ways, including the use of palm pilots or on-line access to the driver license file through a mobile computer in the vehicle or at the station. If allowed by State law and policy, officers and courts should be able to correct or update a limited number of specified fields in the driver record. For example, a driver's address may be incorrect on the driver license record because the driver changed residence but failed to notify DMV.

Specific Major Stakeholder Data Requirements

While various stakeholders are important to the success of the Model system, NHTSA's experience has shown that key system stakeholders include LEAs, DMVs and the courts.

Law Enforcement Agencies. The electronic issuance of citations and other standardized forms (e.g., alcohol or drug test form) should occur at the point of arrest, either at the roadside or at the station, depending on local and State laws and policies. Immediately, or no later than 48 hours after the issuance of the citation, the citation record should be transmitted electronically to the courts and the DMV (if the State imposes pre-conviction administrative license or vehicle sanctions) and integrated into the court and DMV computer systems. The electronic transmission of data can occur in several ways, for example, by wireless transfer via low-energy waves of cellular/digital networks, by downloading the data to a disk and transmitting via the Internet from a desktop computer connected to a landline, or online from a mobile computer in the vehicle. The data may go directly to the courts or be routed through data centers located throughout a State.

The results of drug tests and alcohol tests, when based on a blood sample, will not be available at the time of the arrest and must be provided at a later date. An interface with unique identifiers allows for seamless electronic transfer of test results to the appropriate offender, which ultimately improves system efficiencies and significantly reduces errors.

Courts. Many, if not most, courts use case management software to track cases and support administrative functions (e.g., scheduling court appearances and assigning cases). Traffic Court Case Management Systems Functional Requirement Standards are obtainable from the National Center for State Courts Technology Services at http://www.ncsconline.org/D_Tech/standards/. Electronic citation information transmitted by Law Enforcement Agencies (LEAs) may interface directly with a court database or be sent via an interim data warehouse or gateway to which data are sent and then retrieved by courts and other authorized parties (e.g., prosecutors, defense attorneys). After any necessary translation of the record layout, the electronic citation becomes part of the court's electronic case record and the court's case management system LEAs, the DMV, prosecutors, and other key stakeholders should have online access to query the court system about the status of a particular case or a set of cases (e.g., citations issued by an LEA in the past month). In States where only one violation is placed on a citation form, the system should allow for accessing all citations issued to an offender in a particular incident.

The information needed by the DMV (e.g., notice of conviction or completion of arraignment, prompting administrative license or vehicle sanctions) should be transmitted electronically by the courts immediately, or no later than 48 hours after the action (e.g., conviction or arraignment). This transmission may occur through a variety of mechanisms, for example, via the Internet with the DMV accessing a mailbox on a court Web site and downloading relevant files or via the Internet directly from the court to the DMV. Programming by the courts or the DMVs may be needed to translate court records into a form that can be integrated with DMV records.

DMV. Driver license and vehicle records that are easily understood should be available electronically to the courts, LEAs, and other authorized stakeholders. The driver license and vehicle registration systems should be adapted as necessary to receive information electronically from the courts and LEAs, if applicable. Data received from the courts or LEAs should be integrated into the DMV data bases immediately, or no later than 24 hours after receipt of data. The licensing and vehicle registration computer systems should be programmed so that administrative and court-ordered sanctions are triggered automatically when the information is received from the courts or LEAs.

Information needed by treatment agencies, probation offices, and other agencies involved in sanctioning offenders should be provided electronically by the DMV to the extent practicable. In turn, these agencies should report electronically to the DMV about the completion of sanction. The DMV also should develop protocols with the courts to ensure that information related to the failure to complete sanctions and corrections to court records identified by the DMV are transmitted back to the courts.

Statistical Report Capabilities

A Model Impaired Driving Records Information System enables organizational stakeholders, including the State Highway Safety Office, the State legislature, NHTSA, and others, to obtain periodic and special statistical reports on impaired driving activities within the State. Standardized statistical reports should be periodically generated, and the stakeholders and other authorized system users should be able to obtain simple sets of statistical data on an ad hoc basis through a user-friendly protocol, to the extent that State laws permit. In States where some of the relevant records are sealed to protect personal privacy, the system should permit such records to be included in aggregate summaries.

States vary widely in their definitions of first and repeat impaired driving offenses, both in terms of the look-back period of years and in terms of the offenses that qualify as a prior offense. In some States, for example, a refusal to submit to the alcohol test would count as a prior offense. In generating statistics related to first and repeat offenses, data should be generated using the State's definition of a repeat offense.

Current and historical aggregated data should be available, and the data should be available on a statewide basis, by jurisdiction, or for specific courts or LEAs, as applicable. Aggregate numbers and rates (e.g., alcohol test refusals per person arrested), as applicable, should be provided for the following first and subsequent offenses, to the extent that State laws permit:

• Impaired driving arrest events (including multiple-charge events) by charge;

• All types of final court dispositions, for example, conviction on original charge, conviction on reduced charge (specified), acquittal, dismissal, adjournment in contemplation of dismissal, pending, failure to appear in court;

• Trials by charge and disposition;

• Location of arrests, e.g., roadway segment, jurisdiction;

• Alcohol test refusals and BAC results for tests administered;

• Drug test refusals and results for tests administered;

• Age and gender of persons arrested and convicted;

• All types of court penalties imposed;

• All types of administrative penalties imposed by the DMV, for example, pre-conviction driver license suspension, pre-conviction license plate impoundment;

• Sentence or adjudication diversions/deferrals, if applicable;

• Referrals to treatment by first and repeat offender;

• Completion/non-completion of treatment;

• License reinstatements;

• Sentence completions/non-completions, for example, paid and unpaid fines, jail time served/not served, and community service completed/not completed;

• Average time from arrest to first court appearance, to conviction, and to sentencing statewide by charge;

• Outstanding warrants issued and other administrative actions; and

• Subsequent violations, including driving while suspended/revoked, and resulting penalties during license suspension period.

The generation of much of these data draws from and links information stored in various stakeholders' systems. Depending on a State's laws for charging violations, deriving a particular measure (e.g. second offenders) may necessitate linking data from a case-based records system (e.g., court system) with data from a driver-based records system (e.g., DMV system). The priority for each of the three key stakeholders (LEAs, courts, DMV) is necessarily developing a data system to support its operations and responsibilities. Thus, it is unlikely that any of these stakeholders currently has or will develop a computer system with the capability to generate these kinds of linked data, unless this is a statutory responsibility of the organization.

Data Warehouse

What will typically be required is a data warehouse, or its equivalent, with a database drawing from the various stakeholder data systems, with the capability to link these data and generate standardized periodic statistical reports, and with user-friendly access to stakeholders. A single agency should have the responsibility for developing and maintaining this data warehouse, based on the mutual agreement of the key stakeholders. It may be one of the key stakeholders—most likely the DMV—or it may be another organization, such as the highway safety office, a university, a legislative research division, or a criminal justice organization. Each stakeholder should have a secure means of access to the information, for example, through a secure “mailbox.” The centralized data repository may be a single database, procedures for assimilating data, or a networked distributed database with access gateways.

The data warehouse does not replace the need for each stakeholder to maintain its own data records system. Nor does it eliminate the need for each stakeholder's system to be accessible on-line for basic queries by other stakeholders, since only selected data would be extracted from each stakeholder's system. In addition, for the data warehouse function to operate most effectively, it should be viewed as serving an end in itself (that is, the generation of statistical information cutting across agencies and across the different stages of the impaired driving process), rather than as an adjunct to a stakeholder system designed for a different, albeit related, purpose.

Guidelines for Implementation

States should assess their own circumstances as they conform their DWI tracking systems to the Model System. These circumstances include the complexity of the State's impaired driving law, the amount and types of resources needed to purchase hardware and software and to obtain programming support, the telecommunications infrastructure in the State to support roadside access to DMV driver records and to move data electronically among stakeholders, the computer network for the transmission of data among stakeholders, the degree of uniformity with regard to procedures and policies within organizations and jurisdictions, and intra-organizational and inter-organizational issues such as territorial concerns, poorly defined roles and responsibilities, and lack of agreement on priorities, problems, or solutions within the State.

States may need to address particular obstacles or accommodate certain critical factors in conforming to the model system. For example, depending on geography and size, the impaired driving stakeholders may not have the ability or the resources to upgrade an inadequate telecommunications infrastructure. The selected system must be capable of functioning within this environment. In addition to problematic telecommunications infrastructure, a State's ability to implement improvements to existing system components is hampered by complicated impaired driving laws (e.g., tiered BAC systems, different levels of offenses adjudicated by different courts, complex mixes of administrative and court sanctions), a non-unified court system, the lack of a uniform traffic citation, paper-based and antiquated mainframe systems within the stakeholder agencies, and budget constraints.

In order to attempt full conformity with the Model System, States should undertake the following steps:

• Under the auspices of the State's Traffic Records Coordinating Committee, form a subcommittee or task force charged with overseeing the development and implementation of the system, including the courts (judges, prosecutors, and probation, if applicable), the DMV, the State police and local LEA representatives, treatment, the highway safety office, and other important stakeholders;

• Designate a single lead agency for developing and implementing the system;

• Establish a mechanism for working with the State's information and technology offices to plan and implement the system, including writing software and hardware specifications, selecting vendors, etc.;

• Develop a shared understanding of stakeholders' roles and responsibilities;

• Develop a detailed impaired driving critical path. This critical path describes the step-by-step procedures related to an impaired driving offense, beginning with the citation, continuing through adjudication (administrative and judicial), and ending when the disposition is posted to the driver file (see diagram below).

• Conduct a detailed assessment of current systems to collect, manage, and analyze impaired driving data, in comparison with the model system. (An appropriate assessment of the current systems in comparison with the model system should inventory the current stock of hardware and software to identify the needs of courts, LEAs, the DMV, and other key stakeholders, relate the current systems to the detailed impaired driving critical path, identify deficiencies and steps needed to conform to the specific features noted in the “Specific Features of the Model System” section of these guidelines, examine the compatibility of existing record formats, processes, hardware, software, etc., and evaluate the State's compliance with national standards, for example, standards for electronically-readable driver licenses);

• Standardize processes, procedures, forms, terminology, and data elements among stakeholders and jurisdictions;

• Develop a detailed, step-by-step, long-range plan (including funding levels) for implementing and maintaining the resulting system, training personnel in affected agencies, system upgrades, and obtaining buy-in from the primary stakeholders;

• Develop a formal interagency cooperative agreement to implement the plan, detailing the responsibilities of the agencies and potential sources of short-term and long-term funding;

• Identify statutory, regulatory, or procedural changes needed to implement the system; consider simplification of regulations or laws;

• Establish protocols for authorizing system users and procedures to protect personal privacy rights and the security of the system;

• Identify sources of funding; consider the use of dedicated fees or fines;

• Consider working with other States to take advantage of economies of scale and to minimize duplicative efforts; and

• Formulate a plan to “sell” the importance of the system to the public, advocacy groups, and State policymakers and enlist their support for implementation of improved impaired driving records information system components and related systems.

Issued on: June 23, 2006.
Brian McLaughlin,
Senior Associate Administrator for Traffic Injury Control.

[FR Doc. 06-5844 Filed 6-27-06; 8:45 am]

BILLING CODE 4910-59-P